DEPARTMENT OF TRANSPORTATION

Surface Transportation Board

49 CFR Part 1002

[STB Ex Parte No. 542 (Sub-No. 15)]

Regulations Governing Fees for Services Performed in Connection With Licensing Related Services—2008 Update

AGENCY: Surface Transportation Board, DOT.

ACTION: Stay of effective date.

SUMMARY: This document contains corrections to the preamble of the Board's Final Rules, which was published in the Federal Register of Wednesday, June 18, 2008 (73 FR 34649). The Final Rules adopted the 2008 User Fee Update and revised the fee schedule to reflect increased costs associated with the January 2008 Government salary increases, and the Board's overhead costs, and to reflect changes in Government fringe benefits. After the rules were published, an inadvertent error involving the effective dates of the rules was noticed. The effective dates of these final rules are July 18, 2008, rather than June 18, 2008.

DATES: The amendments to 49 CFR 1002.1 (a) through (e), (f)(1), and (g)(6), and 49 CFR 1002.2(f), published June 18, 2008 (73 FR 34649) are stayed until July 18, 2008.

FOR FURTHER INFORMATION CONTACT: David T. Groves, (202) 245-0327, or Anne Quinlan, (202) 245-0309. [TDD for the hearing impaired: 1-800-877-8339.]

SUPPLEMENTARY INFORMATION: On June 18, 2008, the Board issued Final Rules in the above-docketed proceeding, Regulations Governing Fees for Services Performed in Connection With Licensing Related Services—2008 Update, 73 FR 34649 (June 18, 2008). After the rules were published, an inadvertent error involving the effective dates of the rules was noticed. The effective dates of the final rules are July 18, 2008, rather than June 18, 2008.

Decided: June 20, 2008.
By the Board, Joseph H. Dettmar, Acting Director, Office of Proceedings.
Anne Quinlan,
Acting Secretary.

[FR Doc. E8-14346 Filed 6-24-08; 8:45 am]

BILLING CODE 4915-01-P